DEPARTMENT OF DEFENSE

Department of the Air Force

Global Positioning System Directorate (GPSD)

AGENCY: Department of the Air Force, DoD.

ACTION: Notice of Meeting—2014 Open Forum for the NAVSTAR GPS Public Documents.

SUMMARY: This notice informs the public that the Global Positioning Systems (GPS) Directorate will host the 2014 Public Open Forum on 22 August 2014 for the following NAVSTAR GPS public documents: IS-GPS-200 (Navigation User Interfaces), IS-GPS-705 (User Segment L5 Interfaces), IS-GPS-800 (User Segment L1C Interface), and ICD-GPS-870 (Navstar Next Generation GPS Operational Control Segment [OCX] to User Support Community Interfaces). Additional logistical details can be found below.

The purpose of this forum is to collect issues/comments for analysis and possible integration into the next GPS public document revisions. The GPS Directorate has determined that for the public documents noted above, there will be no technical baseline changes processed this fiscal year. All outstanding comments on the GPS public documents will be considered along with the comments received at this year's open forum in the next revision cycle. The 2014 Open Forum is open to the general public. For those who would like to attend and participate in this forum, we request that you register no later than August 1, 2014. Please send the registration information to timothy.johnson.91.ctr@us.af.mil or SMCGPER@us.af.mil, providing your name, organization, telephone number, mailing and email addresses, and country of citizenship.

Comments will be collected, catalogued, and discussed as potential inclusions to the version following the current release. If accepted, these changes will be processed through the formal Directorate change process for IS-GPS-200, IS-GPS-705, IS-GPS-800, and ICD-GPS-870. All comments must be submitted in a Comments Resolution Matrix (CRM). These forms along with current versions of the documents and the official meeting notice are posted at: http://www.gps.gov/technical/icwg/. Please submit comments to the SMC/GPS Requirements (SMC/GPER) mailbox at SMCGPER@us.af.mil or to Timothy Johnson at timothy.johnson.91.ctr@us.af.mil by August 1, 2014. Special topics may also be considered for the Public Open Forum. If you wish to present a special topic, please coordinate with SMC/GPER or Timothy Johnson no later than August 1, 2014. For more information, please contact Timothy Johnson at 310-416-8476 or Capt. Frank Clark at 310-653-2041.

DATES: Date/Time: 22 Aug 2014, 0800-1700 (Pacific Standard Time P.S.T.).

ADDRESSES:

Leidos Facility,*

300 N. Sepulveda Blvd.,

3rd Floor, CR-3020ABC,

El Segundo, CA 90245.

Dial-In Information and Location:

Phone Number: 1-855-462-5367,

Code: 8311939,

*Identification will be required at the entrance of the Leidos facility (Passport, state ID or Federal ID).

Leidos facility phone number: 1-310-416-8300

FOR FURTHER INFORMATION CONTACT:

Timothy Johnson,

timothy.johnson.91.ctr@us.af.mil,

(310) 416-8476

Or

Captain Frank Clark,

SMCGPER@us.af.mil,

(310) 653-2041.

Henry Williams,
Acting Air Force Federal Liaison Officer.

[FR Doc. 2014-15911 Filed 7-8-14; 8:45 am]

BILLING CODE 5001-10-P